DEPARTMENT OF AGRICULTURE

Commodity Credit Corporation

Rural Business-Cooperative Service

Notice of Funds Availability for the Higher Blends Infrastructure Incentive Program (HBIIP) for Fiscal Year 2020; Correction

AGENCY: Commodity Credit Corporation and the Rural Business-Cooperative Service, Department of Agriculture (USDA).

ACTION: Notice; correction.

SUMMARY: The Commodity Credit Corporation and the Rural Business-Cooperative Service, USDA published a notice in the Federal Register on May 5, 2020 regarding the Notice of Funds Availability for the Higher Blends Infrastructure Incentive Program (HBIIP) for Fiscal Year 2020. This document inadvertently did not include all the Western states in Section V. Application Review Information, A. Criteria, 2. This notice corrects that omission.

FOR FURTHER INFORMATION CONTACT: Anthony Crooks: Telephone (202) 205-9322, email: EnergyPrograms@usda.gov. Persons with disabilities that require alternative means for communication should contact the USDA Target Center at (202) 720-2600 (voice).

SUPPLEMENTARY INFORMATION:

Correction

1. In the Federal Register of May 5, 2020, in FR Doc. 2020-09685, on page 26662, in the third column, correct (viii), 2. to read: The Western States and U.S. Territories, including—Alaska, Arkansas, Arizona, California, Colorado, Hawaii, Idaho, Iowa, Kansas, Louisiana, Minnesota, Missouri, Montana, Nebraska, Nevada, New Mexico, North Dakota, Oklahoma, Oregon, South Dakota, Texas, Utah, Washington, Wyoming, and the U.S. Territories of Puerto Rico, the U.S. Virgin Islands, Guam, the Northern Mariana Islands, and American Samoa.

Robert Stephenson,
Executive Vice President, Commodity Credit Corporation.
Mark Brodziski,
Acting Administrator, Rural Business-Cooperative Service.

[FR Doc. 2020-13360 Filed 6-23-20; 8:45 am]

BILLING CODE P